DEPARTMENT OF HOMELAND SECURITY

Citizenship and Immigration Services

Agency Information Collection Activities: Comment Request

ACTION: Notice of 30-day information collection under review: implementation of the agreement between the Government of the United States of America and the Government of Canada regarding asylum claims made in transit and at land border ports-of-entry, emergency approval requested, File No. OMB-42.

The Department of Homeland Security, Citizenship and Immigration Services (CIS) has submitted the following information collection request utilizing emergency review procedures to the Office of Management and Budget (OMB) for review and clearance in accordance with the Paperwork Reduction Act of 1995. The CIS has determined that it cannot reasonably comply with the normal clearance procedures under this part because normal clearance procedures are likely to prevent or disrupt the collection of information. Therefore, emergency review and OMB approval has been requested by December 29, 2004. This information collection was published previously in the Federal Register on November 29, 2004, at 69 FR 69480, it allowed for a 60-day public comment period.

The purpose of this notice is to allow an additional 30 days for public comments. Comments are encouraged and will be accepted until January 10, 2005. This process is conducted in accordance with 5 CFR 1320.10.

Written comments and/or suggestions regarding items contained in this notice, especially regarding the estimated public burden and associated response time, should be directed to Mr. Richard A. Sloan, Director, Regulatory Management Division, U.S. Citizenship and Immigration Services, 111 Massachusetts Avenue, NW., Washington, DC 20529; 202-616-7598.

Written comments and/or suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: This is a new collection.

(2) Title of the Form/Collection: Implementation of the Agreement Between the Government of the United States of America and the Government of Canada Regarding Asylum Claims Made in Transit and at Land Border Ports-of-Entry.

(3) Agency form number, if any, and the applicable component of the Department of Homeland Security sponsoring the collection: No agency form number (File No. OMB-42), Office of Policy and Strategy, U.S. Citizenship and Immigration Services.

(4) Affected public who will be asked or required to respond, as well as a brief abstract: Primary: Individuals or Households. This information will be used to assess individual and agency needs, identify problems, and plan for programmatic improvements in the delivery of immigration services.

(5) An estimate of the total number of respondents and the amount of time estimated for an average respondent to respond: 200 responses at 30 minutes (.50 hours) per response.

(6) An estimate of the total public burden (in hours) associated with the collection: 100 annual burden hours.

Dated: December 6, 2004.
Stephen R. Tarragon,
Director, United States Citizenship and Immigration Services, Department of Homeland Security.

[FR Doc. 04-27085 Filed 12-9-04; 8:45 am]

BILLING CODE 4410-10-M